DEPARTMENT OF EDUCATION

Privacy Act of 1974; System of Records—Evaluation of the Impact of Teacher Induction Programs

AGENCY: Institute of Education Sciences, Department of Education.

ACTION: Notice of a new system of records.

SUMMARY: In accordance with the Privacy Act of 1974, as amended (Privacy Act), the Department of Education (Department) publishes this notice of a new system of records entitled Evaluation of the Impact of Teacher Induction Programs (18-13-11). Mathematica Policy Research, Inc., in collaboration with the Center for Educational Leadership, is conducting the Evaluation of the Impact of Teacher Induction Programs. The evaluation has been commissioned by the National Center for Education Evaluation and Regional Assistance at the Department's Institute of Education Sciences (IES).

The study will address the following questions:

(1) Do elementary school teachers who participate in a high-intensity program of induction have increased retention rates as compared to teachers who participate in the induction program that the school district normally offers?

(2) If the high-intensity program of induction support is more effective in retaining elementary school teachers, is the increase in teacher retention large enough to warrant the added cost of the program?

(3) For teachers who participate in the high-intensity program or the induction program that the school district normally offers, what are the characteristics of those who are retained versus those who leave the school, district, or profession?

(4) Does participation in a high-intensity induction program affect teacher practices, as compared to the practices of teachers who participate in the induction program that the district normally offers?

(5) Does participation in a high-intensity induction program result in increased student achievement?

The system of records will contain information about teachers participating in the evaluation. It will include, but is not limited to the following data: Names; social security numbers; home addresses; home phone numbers; cell phone numbers; e-mail addresses; race/ethnicity; age; income; marital status; household composition; home ownership; educational background and credentials; and ACT or SAT college examination scores.

DATES: The Department seeks comment on the new system of records described in this notice, in accordance with the requirements of the Privacy Act. We must receive your comments on the proposed routine uses for the system of records referenced in this notice on or before July 18, 2005. The Department filed a report describing the new system of records covered by this notice with the Chair of the Senate Committee on Homeland Security and Governmental Affairs, the Chair of the House Committee on Government Reform, and the Administrator of the Office of Information and Regulatory Affairs, Office of Management and Budget (OMB) on June 14, 2005. This system of records will become effective at the later date of— (1) the expiration of the 40 day period for OMB review on July 25, 2005 or (2) July 18, 2005, unless the system of records needs to be changed as a result of public comment or OMB review.

ADDRESSES: Address all comments about the proposed routine uses to Dr. Ricky Takai, Associate Commissioner, Evaluation Division, National Center for Education Evaluation and Regional Assistance, Institute of Education Sciences, U.S. Department of Education, 555 New Jersey Avenue, NW., Room 500, Washington, DC 20208-0001. Telephone: (202) 208-7083. If you prefer to send comments through the Internet, use the following address: comments@ed.gov.

You must include the term “Teacher Induction” in the subject line of the electronic message.

During and after the comment period, you may inspect all comments about this notice in room 500, 555 New Jersey Avenue, NW., Washington, DC, between the hours of 8 a.m. and 4:30 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications devise for the deaf (TDD), you may call the Federal Relay Service (FRS) at 1-800-877-8339.

Individuals with disabilities may obtain this document in an alternative format (e.g., Braille, large print, audiotape, or computer diskette) on request to the contact person listed under this section.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to information about individuals that contain individually identifiable information that are retrieved by a unique identifier associated with each individual, such as a name or social security number. The information about each individual is called a “record,” and the system, whether manual or computer-based, is called a “system of records.” The Privacy Act requires each agency to publish notices of systems of records in the Federal Register and to prepare reports to OMB whenever the agency publishes a new system of records. Each agency is also required to send copies of the report to the Chair of the Senate Committee on Homeland Security and Governmental Affairs and the Chair of the House Committee on Government Reform. These reports are intended to permit an evaluation of the probable or potential effect of the proposal on the privacy rights of individuals.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the CFR is available on GPO Access at: http://www.gpoaccess.gov/nara/index.html.

Dated: June 14, 2005.
Grover Whitehurst,
Director, Institute of Education Sciences.

For the reasons discussed in the preamble, the Director of the Institute of Education Sciences, U.S. Department of Education, publishes a notice of a new system of records to read as follows:

18-13-11

System Name:

Evaluation of the Impact of Teacher Induction Programs.

Security Classification:

None.

System Location:

(1) Evaluation Division, National Center for Education Evaluation and Regional Assistance, Institute of Education Sciences, U.S. Department of Education, 555 New Jersey Avenue, NW., Room 500, Washington, DC 20208-0001.

(2) Mathematica Policy Research, Inc., 600 Alexander Park, Princeton, NJ 08540.

Categories of Individuals Covered by the System:

This system contains records on teachers participating in the Evaluation of the Impact of Teacher Induction Programs. The goal of this evaluation is to evaluate the impact of a high intensity model of teacher induction on novice elementary school teachers' retention rates and classroom performance. Twenty high-poverty school districts will participate in the evaluation. Selected districts will be those that do not already offer a high intensity induction program and that agree to assign 20 elementary schools within the district by lottery to either the high intensity model of teacher induction or the teacher induction program that the district normally provides. Teachers' participation in the evaluation will be voluntary.

Categories of Records in the System:

This system consists of a baseline teacher survey (which will cover the teacher's professional credentials, the teacher's perceptions of the teaching profession, and the teacher's personal background characteristics, many of which may affect retention), the teacher's college SAT or ACT examination results, a classroom observation protocol, a teacher induction activities survey (which will ask questions about the kinds of induction activities in which the novice teacher participated, as well as the intensity and duration of those activities), a teacher retention survey (items will include the teacher's place of employment, pursuit of continuing education, the timing of any change in the teacher's employment, the teacher's job satisfaction, and, if applicable, the reasons that the teacher left an original school or the teaching profession), and aggregated student test score data which will be linked to the teacher.

Information on study participants in this system will include, but not be limited to the following data: Names; home addresses; home phone numbers; cell phone numbers; e-mail addresses; social security numbers; race/ethnicity; age; income; marital status; household composition; home ownership; educational background and credentials; and ACT or SAT college examination results.

Authority for Maintenance of the System:

The evaluation being conducted is authorized under: (1) sections 171(b) and 173 of the Education Sciences Reform Act of 2002 (ESRA) (20 U.S.C. 9561(b) and 9563); and (2) section 9601 of the Elementary and Secondary Education Act of 1965 (ESEA), as amended by the No Child Left Behind Act of 2001 (NCLB) (20 U.S.C. 7941). The authority for the underlying teacher induction programs, the impact of which the Department of Education (Department) is evaluating, is sections 2121 through 2123 of the ESEA, as amended by NCLB (20 U.S.C. 6621-6623).

Purpose(s):

The information in this system is used for the following purposes: (1) To fulfill the requirements of the ESEA, as amended by the NCLB, for evaluation and research of teacher quality; and (2) to provide information on the effectiveness of teacher induction programs in increasing teacher retention and improving teacher performance.

Routine Uses of Records Maintained in the System, Including Categories of Users and the Purpose of Such Uses:

The Department may disclose information contained in a record in this system of records under the routine uses listed in this system of records without the consent of the individual if the disclosure is compatible with the purposes for which the record was collected. These disclosures may be made on a case-by-case basis or, if the Department has complied with the computer matching requirements of the Act, under a computer matching agreement. Any disclosure of individually identifiable information from a record in this system must also comply with the requirements of section 183 of the ESRA (20 U.S.C. 9573) providing for confidentiality standards that apply to all collections, reporting and publication of data by IES.

(1) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(2) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(3) Freedom of Information Act (FOIA) Advice Disclosure. The Department may disclose records to the U.S. Department of Justice and the Office of Management and Budget if the Department concludes that disclosure is desirable or necessary in determining whether particular records are required to be disclosed under the FOIA.

Disclosure to Consumer Reporting Agencies:

Not applicable to this system notice.

Policies and Practices for Storing, Retrieving, Accessing, Retaining, and Disposing of Records in the System:

Storage:

The Department maintains records on CD-ROM and the contractor maintains data for this system on computers and in hard copy.

Retrievability:

Records in this system are indexed by a number assigned to each individual that is cross referenced by the individual's name on a separate list.

Safeguards:

All physical access to the Department's site and to the site of the Department's contractor, where this system of records is maintained, is controlled and monitored by security personnel. The computer system employed by the Department offers a high degree of resistance to tampering and circumvention. This security system limits data access to Department and contract staff on a “need to know” basis, and controls individual users’ ability to access and alter records within the system.

The contractor, Mathematica Policy Research, Inc. (MPR), has established a set of procedures to ensure confidentiality of data. The system ensures that information identifying individuals is in files physically separated from other research data. MPR will maintain security of the complete set of all master data files and documentation. Access to individually identifiable data will be strictly controlled. All data will be kept in locked file cabinets during nonworking hours, and work on hardcopy data will take place in a single room, except for data entry. Physical security of electronic data will also be maintained. Security features that protect project data include password-protected accounts that authorize users to use the MPR system but to access only specific network directories and network software; user rights and directory and file attributes that limit those who can use particular directories and files and determine how they can use them; e-mail passwords that authorize the user to access mail services; and additional security features that the network administrator establishes for projects as needed. MPR shall comply with the requirements of the confidentiality standards in section 183 of the ESRA (20 U.S.C. 9573).

Retention and Disposal:

Records are maintained and disposed of in accordance with the Department's Records Disposition Schedules (ED/RDS). In particular, the Department will follow the schedules outlined in Part 3 (Research Projects and Management Study Records) and Part 14 (Electronic Records) of ED/RDS.

System Manager and Address:

Associate Commissioner, Evaluation Division, National Center for Education Evaluation and Regional Assistance, Institute of Education Sciences, U.S. Department of Education, 555 New Jersey Avenue, NW., Room 500, Washington, DC 20208-0001.

Notification Procedure:

If you wish to determine whether a record exists regarding you in the system of records, contact the systems manager. Your request must meet the requirements of regulations in 34 CFR 5b.5, including proof of identity.

Record Access Procedure:

If you wish to gain access to your record in the system of records, contact the system manager. Your request must meet the requirements of regulations in 34 CFR 5b.5, including proof of identity.

Contesting Record Procedure:

If you wish to contest the content of a record regarding you in the system of records, contact the system manager. Your request must meet the requirements of regulations in 34 CFR 5b.7, including proof of identity.

Record Source Categories:

Information is obtained from surveys of teachers from schools participating in the Evaluation of the Impact of Teacher Induction Programs study. Information is also obtained from the teacher's college entrance exams, pursuant to the teacher's written consent, the workshop observation protocol, and the classroom observation protocol. Additionally, the study involves the collection of data from student records aggregated by classrooms and the collection of program documents, such as training agenda and materials, curriculum guides, and assessment tools, that will be supplied by two high-intensity induction program providers.

Exemptions Claimed for the System:

None.

[FR Doc. 05-12019 Filed 6-16-05; 8:45 am]

BILLING CODE 4000-01-P